DEPARTMENT OF TRANSPORTATION

Federal Aviation Administration

14 CFR Part 73

[Docket No. FAA-2023-2371; Airspace Docket No. 22-ANM-42]

RIN 2120-AA66

Establishment of Restricted Area R-4601 in the Vicinity of Townsend, MT

AGENCY: Federal Aviation Administration (FAA), DOT.

ACTION: Notice of proposed rulemaking (NPRM).

SUMMARY: This action proposes to establish restricted area R-4601 in the vicinity of Townsend, MT. The new restricted area would provide the Montana Army National Guard (MTARNG) and the 40th Helicopter Squadron with the ability to conduct aerial gunnery training.

DATES: Comments must be received on or before February 5, 2024.

ADDRESSES: Send comments identified by FAA Docket No. FAA-2023-2371 and Airspace Docket No. 22-ANM-42 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in title 49 of the United States Code. Subtitle I, section 106 describes the authority of the FAA Administrator. Subtitle VII, Aviation Programs, describes in more detail the scope of the agency's authority. This rulemaking is promulgated under the authority described in subtitle VII, part A, subpart I, section 40103. Under that section, the FAA is charged with prescribing regulations to assign the use of the airspace necessary to ensure the safety of aircraft and the efficient use of airspace. This regulation is within the scope of that authority as it would establish restricted area airspace over the MTARNG Limestone Hills Training Area near Townsend, MT.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Operations Support Group, Federal Aviation Administration, 2200 South 216th St., Des Moines, WA 98198.

Background

The MTARNG submitted a proposal to the FAA to establish a new restricted area, R-4601, over the Limestone Hills Training Area (LHTA) near Townsend, MT, to support aerial gunnery training requirements. Currently, the LHTA consists of multiple surface-to-surface live-fire weapons ranges that are contained within a Controlled Firing Area (CFA); however aerial gunnery live-fire is not authorized within a CFA. Hazardous activities, such as aerial gunnery, are required to be contained within a restricted area. Restricted areas are designated pursuant to 14 CFR part 73 rulemaking procedures to contain activities that may present a hazard to nonparticipating aircraft.

The proposed restricted area would provide a training capability to the MTARNG in preparation for combat deployments and also the 40th Helicopter Squadron located at Malmstrom Air Force Base (AFB) in support of security operations.

The United States Air Force's Global Strike Command (AFGSC) is tasked to provide armed helicopters in support of Malmstrom AFB missile field security operations. These helicopter units require an aerial gunnery range within one flight duty period (FDP) of their permanent bases to effectively and efficiently qualify and remain proficient in aerial gunnery operations. The LHTA is the only existing facility within one FDP with the possibility to support this training requirement. LHTA is located approximately 75 nautical miles from Malmstrom AFB.

The MTARNG aviation rotary wing assets would utilize the proposed restricted area to conduct day and night aerial gunnery training on an annual basis at a minimum, to increase and maintain their operational readiness. The MTARNG aviation units would schedule the proposed restricted area for approximately 40 training events (20 days, 20 nights) per year with each training event lasting over a six-hour period of time.

The 40th Helicopter Squadron is tasked with ensuring strategic security for Malmstrom AFB by providing flexible, rapid-response helicopter airlift and security support to the 341st Missile Wing. The 40th Helicopter Squadron would schedule the proposed restricted area for approximately 60 aerial training events (30 days, 30 nights) per year with each training event lasting over a four-to-six-hour period of time.

The use of the proposed restricted area could vary due to weather, unit requirements, or scheduling conflicts.

The Proposal

The FAA is proposing an amendment to 14 CFR part 73 to establish R-4601 over the Limestone Hills Training Area in the vicinity of Townsend, MT. This action would be used to contain hazardous aerial gunnery activities. The proposed restricted area is described below.

R-4601: The proposed restricted area would extend upward from the surface of the ground to 9,000 Mean Sea Level (MSL). The restricted area would be located approximately four miles west of the Townsend Airport, MT (8U8) and extend approximately eight miles to the southwest. The restricted area would be activated by a Notice to Air Missions (NOTAM) to inform nonparticipants when the proposed restricted area is active. During periods when the restricted area airspace is not needed by the using agency for its designated purpose, the airspace will be returned to the controlling agency for access by other National Airspace System users. The controlling agency for this proposed restricted area would be the Salt Lake City Air Route Traffic Control Center.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for 14 CFR part 73 continues to read as follows:

Authority: 49 U.S.C. 106(f), 106(g); 40103, 40113, 40120; E.O. 10854, 24 FR 9565, 3 CFR, 1959-1963 Comp., p. 389.

§ 73.46 Montana (MT) [New]

2. Section 73.46 is amended as follows:

R-4601 Townsend, MT [New]

Boundaries. Beginning at lat. 46°19′12″ N, long. 111°38′00″ W; to lat. 46°20′10″ N, long. 111°34′00″ W; to lat. 46°17′30″ N, long. 111°32′10″ W; to lat. 46°13′30″ N, long. 111°32′10″ W; to lat. 46°13′30″ N, long. 111°38′00″ W; to the point of beginning.

Designated altitudes. Surface to 9,000 feet MSL.

Time of designation. By NOTAM.

Controlling agency. FAA, Salt Lake City ARTCC.

Using agency. U.S. Army, Montana Army National Guard, Joint Forces Headquarters, Fort Harrison, MT.

* * * * *

Issued in Washington, DC, on December 15, 2023.
Brian Konie,
Acting Manager, Rules and Regulations Group.

[FR Doc. 2023-28030 Filed 12-20-23; 8:45 am]

BILLING CODE 4910-13-P